DEPARTMENT OF ENERGY

Federal Energy Regulatory Commission

Combined Notice of Filings No. 1

March 1, 2011.

Take notice that the Commission has received the following Natural Gas Pipeline Rate and Refund Report filings:

Docket Numbers: RP11-1813-000.

Applicants: Trunkline Gas Company, LLC

Description: Trunkline Gas Company, LLC submits tariff filing per 154.204: Negotiated Rates Filing-6 to be effective 3/1/2011.

Filed Date: 02/28/2011.

Accession Number: 20110228-5093.

Comment Date: 5 p.m. Eastern Time on Monday, March 14, 2011.

Docket Numbers: RP11-1814-000.

Applicants: High Island Offshore System, L.L.C.

Description: High Island Offshore System, L.L.C. submits tariff filing per 154.403(d)(2): 2011 Annual Fuel Filing to be effective 4/1/2011.

Filed Date: 02/28/2011.

Accession Number: 20110228-5097.

Comment Date: 5 p.m. Eastern Time on Monday, March 14, 2011.

Docket Numbers: RP11-1815-000.

Applicants: Cheniere Creole Trail Pipeline, L.P.

Description: Cheniere Creole Trail Pipeline, L.P. submits tariff filing per 154.402: Semi Annual Charge Adjustment to be effective 4/1/2011.

Filed Date: 02/28/2011.

Accession Number: 20110228-5104.

Comment Date: 5 p.m. Eastern Time on Monday, March 14, 2011.

Docket Numbers: RP11-1816-000.

Applicants: PostRock KPC Pipeline, LLC.

Description: PostRock KPC Pipeline, LLC submits tariff filing per 154.203: Order No. 587-U Compliance to be effective 7/1/2011.

Filed Date: 02/28/2011.

Accession Number: 20110228-5106.

Comment Date: 5 p.m. Eastern Time on Monday, March 14, 2011.

Docket Numbers: RP11-1817-000.

Applicants: PostRock KPC Pipeline, LLC.

Description: PostRock KPC Pipeline, LLC submits tariff filing per 154.403(d) (2): Fuel Reimbursement Adjustment to be effective 4/1/2011.

Filed Date: 02/28/2011.

Accession Number: 20110228-5108.

Comment Date: 5 p.m. Eastern Time on Monday, March 14, 2011.

Docket Numbers: RP11-1818-000.

Applicants: Crossroads Pipeline Company.

Description: Crossroads Pipeline Company submits tariff filing per 154.204: TRA 2011 to be effective 4/1/2011.

Filed Date: 02/28/2011.

Accession Number: 20110228-5121.

Comment Date: 5 p.m. Eastern Time on Monday, March 14, 2011.

Docket Numbers: RP11-1819-000.

Applicants: Dominion Cove Point LNG, LP.

Description: Dominion Cove Point LNG, LP submits tariff filing per 154.204: DCP—2011 Annual EPCA to be effective 4/1/2011.

Filed Date: 02/28/2011.

Accession Number: 20110228-5151.

Comment Date: 5 p.m. Eastern Time on Monday, March 14, 2011.

Docket Numbers: RP11-1820-000.

Applicants: Columbia Gulf Transmission Company.

Description: Columbia Gulf Transmission Company submits tariff filing per 154.204: TRA 2011 to be effective 5/1/2011.

Filed Date: 02/28/2011.

Accession Number: 20110228-5152.

Comment Date: 5 p.m. Eastern Time on Monday, March 14, 2011.

Docket Numbers: RP11-1821-000.

Applicants: Dominion Cove Point LNG, LP.

Description: Dominion Cove Point LNG, LP submits tariff filing per 154.204: DCP—2011 Annual Fuel Retainage to be effective 4/1/2011.

Filed Date: 02/28/2011.

Accession Number: 20110228-5153.

Comment Date: 5 p.m. Eastern Time on Monday, March 14, 2011.

Docket Numbers: RP11-1822-000.

Applicants: Columbia Gas Transmission, LLC.

Description: Columbia Gas Transmission, LLC submits tariff filing per 154.204: TCRA 2011 to be effective 4/1/2011.

Filed Date: 02/28/2011.

Accession Number: 20110228-5169.

Comment Date: 5 p.m. Eastern Time on Monday, March 14, 2011.

Docket Numbers: RP11-1824-000.

Applicants: Natural Gas Pipeline Company of America LLC.

Description: Natural Gas Pipeline Company of America LLC submits tariff filing per 154.204: Brazos Electric's Non-Conforming Agreement Filing to be effective 4/1/2011.

Filed Date: 02/28/2011.

Accession Number: 20110228-5193.

Comment Date: 5 p.m. Eastern Time on Monday, March 14, 2011.

Docket Numbers: RP11-1825-000.

Applicants: Columbia Gas Transmission, LLC.

Description: Columbia Gas Transmission, LLC submits tariff filing per 154.204: EPCA 2011 to be effective 4/1/2011.

Filed Date: 02/28/2011.

Accession Number: 20110228-5203.

Comment Date: 5 p.m. Eastern Time on Monday, March 14, 2011.

Docket Numbers: RP11-1826-000.

Applicants: Viking Gas Transmission Company.

Description: Viking Gas Transmission Company submits tariff filing per 154.204: LMCRA to be effective 4/1/2011.

Filed Date: 02/28/2011.

Accession Number: 20110228-5224.

Comment Date: 5 p.m. Eastern Time on Monday, March 14, 2011.

Docket Numbers: RP11-1827-000.

Applicants: Columbia Gas Transmission, LLC.

Description: Columbia Gas Transmission, LLC submits tariff filing per 154.204: RAM 2011 to be effective 4/1/2011.

Filed Date: 02/28/2011.

Accession Number: 20110228-5225.

Comment Date: 5 p.m. Eastern Time on Monday, March 14, 2011.

Docket Numbers: RP11-1828-000.

Applicants: Central Kentucky Transmission Company.

Description: Central Kentucky Transmission Company submits tariff filing per 154.204: RAM 2011 to be effective 4/1/2011.

Filed Date: 02/28/2011.

Accession Number: 20110228-5250.

Comment Date: 5 p.m. Eastern Time on Monday, March 14, 2011.

Docket Numbers: RP11-1829-000.

Applicants: Williston Basin Interstate Pipeline Company.

Description: Williston Basin Interstate Pipeline Company submits tariff filing per 154.204: Annual Fuel and Electric Power Reimbursement to be effective 4/1/2011.

Filed Date: 03/01/2011.

Accession Number: 20110301-5041.

Comment Date: 5 p.m. Eastern Time on Monday, March 14, 2011.

Docket Numbers: RP11-1830-000.

Applicants: Williston Basin Interstate Pipeline Company.

Description: Williston Basin Interstate Pipeline Company submits tariff filing per 154.204: Non-Conforming Service Agreement to be effective 4/1/2011.

Filed Date: 03/01/2011.

Accession Number: 20110301-5042.

Comment Date: 5 p.m. Eastern Time on Monday, March 14, 2011.

Docket Numbers: RP11-1831-000.

Applicants: MarkWest Pioneer, L.L.C.

Description: MarkWest Pioneer, L.L.C. submits tariff filing per 154.403(d) (2): Quarterly Fuel Adjustment Filing to be effective 4/1/2011.

Filed Date: 03/01/2011.

Accession Number: 20110301-5043.

Comment Date: 5 p.m. Eastern Time on Monday, March 14, 2011.

Docket Numbers: RP11-1832-000.

Applicants: Transcontinental Gas Pipe Line Company, LLC.

Description: Transcontinental Gas Pipe Line Company, LLC submits tariff filing per 154.403: Annual Electric Power Tracker to be effective 4/1/2011.

Filed Date: 03/01/2011.

Accession Number: 20110301-5045.

Comment Date: 5 p.m. Eastern Time on Monday, March 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2011-5021 Filed 3-4-11; 8:45 am]

BILLING CODE 6717-01-P